NUCLEAR REGULATORY COMMISSION

[Docket Nos. 50-334, 50-412, 50-456, 50-457, 50-259, 50-260, 50-296, 50-325, 50-324, 50-454, 50-455, 50-317, 50-318, 50-413, 50-414, 50-461, 50-397, 50-445, 50-446, 50-298, 50-346, 50-275, 50-323, 50-315, 50-316, 50-237, 50-249, 50-321, 50-366, 50-341, 50-354, 50-272, 50-311, 50-003, 50-247, 50-286, 50-333, 50-348, 50-364, 50-261, 50-373, 50-374, 50-352, 50-353, 50-369, 50-370, 50-245, 50-336, 50-423, 50-263, 50-220, 50-410, 50-338, 50-339, 50-269, 50-270, 50-287, 50-243, 50-255, 50-528, 50-529, 50-530, 50-277, 50-278, 50-440, 50-266, 50-301, 50-282, 50-306, 50-254, 50-265, 50-244, 50-458, 50-335, 50-389, 50-443, 50-400, 50-498, 50-499, 50-280, 50-281, 50-387, 50-388, 50-395, 50-424, 50-425, 50-382, 50-390, 50-391; NRC-2020-0110]

Issuance of Multiple Exemptions in Response to COVID-19 Public Health Emergency

AGENCY: Nuclear Regulatory Commission.

ACTION: Exemptions; issuance.

SUMMARY: The U.S. Nuclear Regulatory Commission (NRC) issued 68 exemptions in response to requests from 26 licensees. The exemptions afford these licensees temporary or permanent relief from certain requirements under NRC regulations. The exemptions are in response to the licensees' requests for relief due to the coronavirus disease 2019 (COVID-19) public health emergency (PHE). The NRC is issuing a single notice to announce the issuance of the exemptions.

DATES: During the period from December 1, 2020, to December 28, 2020, the NRC granted 68 exemptions in response to requests submitted by licensees from September 30, 2020, to December 23, 2020.

ADDRESSES: Please refer to Docket ID NRC-2020-0110 when contacting the NRC about the availability of information regarding this document. You may obtain publicly available information related to this document using any of the following methods:

• Federal Rulemaking website: Go to https://www.regulations.gov and search for Docket ID NRC-2020-0110. Address questions about NRC Docket IDs in Regulations.gov to Jennifer Borges; telephone: 301-287-9127; email: Jennifer.Borges@nrc.gov. For technical questions, contact the individual listed in the FOR FURTHER INFORMATION CONTACT section of this document.

• NRC's Agencywide Documents Access and Management System (ADAMS): You may obtain publicly available documents online in the ADAMS Public Documents collection at https://www.nrc.gov/reading-rm/adams.html. To begin the search, select “Begin Web-based ADAMS Search.” For problems with ADAMS, please contact the NRC's Public Document Room (PDR) reference staff at 1-800-397-4209, 301-415-4737, or by email to pdr.resource@nrc.gov.

• Attention: The PDR, where you may examine and order copies of public documents, is currently closed. You may submit your request to the PDR via email at pdr.resource@nrc.gov or call 1-800-397-4209 or 301-415-4737, between 8:00 a.m. and 4:00 p.m. (EST), Monday through Friday, except Federal holidays.

For the convenience of the reader, instructions about obtaining materials referenced in this document are provided in the “Availability of Documents” section.

FOR FURTHER INFORMATION CONTACT: James Danna, Office of Nuclear Reactor Regulation, U.S. Nuclear Regulatory Commission, Washington DC 20555-0001; telephone: 301-415-7422, email: James.Danna@nrc.gov.

SUPPLEMENTARY INFORMATION:

I. Introduction

During the period from December 1, 2020, to December 28, 2020, the NRC granted 68 exemptions in response to requests submitted by licensees from September 30, 2020, to December 23, 2020. These exemptions allow the licensees to deviate from certain requirements (as cited in this notice) of various parts of chapter I of title 10 of the Code of Federal Regulations (10 CFR).

The exemptions from certain requirements of 10 CFR part 26, “Fitness for Duty Programs,” for Exelon Generation Company, LLC (for Braidwood Station, Units 1 and 2; Byron Station, Unit Nos. 1 and 2; Clinton Power Station, Unit No. 1; LaSalle County Station, Units 1 and 2; and Quad Cities Nuclear Power Station, Units 1 and 2); for Vistra Operations Company LLC (for Comanche Peak Nuclear Power Plant, Unit Nos. 1 and 2); for Arizona Public Service Company (for Palo Verde Nuclear Generating Station, Units 1, 2, and 3); for PSEG Nuclear LLC (for Hope Creek Generating Station and Salem Nuclear Generating Station, Unit Nos. 1 and 2); and for Indiana Michigan Power Company (for Donald C. Cook Nuclear Plant, Unit Nos. 1 and 2), afford these licensees temporary relief from the work-hour controls under 10 CFR 26.205(d)(1) through (d)(7). The exemptions from 10 CFR 26.205(d)(1) through (d)(7) ensure that the control of work hours and management of worker fatigue do not unduly limit licensee flexibility in using personnel resources to most effectively manage the impacts of the COVID-19 PHE on maintaining the safe operation of these facilities. Specifically, these licensees have stated that their staffing levels are affected or are expected to be affected by the COVID-19 PHE, and they can no longer meet or likely will not meet the work-hour controls of 10 CFR 26.205(d)(1) through (d)(7). These licensees have committed to effecting site-specific administrative controls for COVID-19 PHE fatigue management for personnel specified in 10 CFR 26.4(a).

The exemptions from certain requirements of 10 CFR part 50, appendix E, “Emergency Planning and Preparedness for Production and Utilization Facilities,” section IV.F., “Training,” for Energy Northwest (for Columbia Generating Station); for DTE Electric Company (for Fermi-2); for PSEG Nuclear LLC (for Hope Creek Generating Station and Salem Nuclear Generating Station, Unit Nos. 1 and 2); for Entergy Nuclear Operations, Inc. (for Indian Point Nuclear Generating Station, Unit Nos. 1, 2, and 3; and Palisades Nuclear Plant); for Virginia Electric and Power Company (for North Anna Power Station, Unit Nos. 1 and 2); for Exelon Generation Company, LLC (for LaSalle County Station, Units 1 and 2); for Oregon State University (for the Oregon State TRIGA Reactor); for Entergy Operations, Inc. (for River Bend Station, Unit 1); for NextEra Energy Seabrook, LLC (for Seabrook Station, Unit No. 1), grant temporary exemptions from the biennial emergency preparedness exercise requirement. The exemptions allow a temporary exemption from the requirements of 10 CFR part 50, appendix E, regarding the conduct of the biennial emergency preparedness exercise. These exemptions will not adversely affect the emergency response capability of the facilities because affected licensee personnel are currently qualified, and the licensees' proposed compensatory measures will enable their staff to maintain their knowledge, skills, and abilities without the conduct of the biennial emergency preparedness exercise during the exemption term.

The exemptions from certain requirements of 10 CFR part 73, appendix B, “General Criteria for Security Personnel,” section VI, “Nuclear Power Reactor Training and Qualification Plan for Personnel Performing Security Program Duties,” for Energy Harbor Nuclear Corp. (for Beaver Valley Power Station, Units 1 and 2; Davis-Besse Nuclear Power Station, Unit No. 1; and Perry Nuclear Power Plant, Unit No. 1); for Exelon Generation Company, LLC (for Braidwood Station, Units 1 and 2; Byron Station, Unit Nos. 1 and 2; Calvert Cliffs Nuclear Power Plant, Units 1 and 2; Clinton Power Station, Unit No. 1; Dresden Nuclear Power Station, Units 2 and 3; James A. FitzPatrick Nuclear Power Plant; LaSalle County Station, Units 1 and 2; Limerick Generating Station, Units 1 and 2; Nine Mile Point Nuclear Station, Units 1 and 2; Peach Bottom Atomic Power Station, Units 2 and 3; Quad Cities Nuclear Power Station, Units 1 and 2; and R. E. Ginna Nuclear Power Plant); for Tennessee Valley Authority (for Browns Ferry Nuclear Plant, Units 1, 2, and 3; and Watts Bar Nuclear Plant, Units 1 and 2); for Duke Energy Progress, LLC (for Brunswick Steam Electric Plant, Units 1 and 2; Shearon Harris Nuclear Power Plant, Unit 1; and H. B. Robinson Steam Electric Plant, Unit No. 2); for Nebraska Public Power District (for Cooper Nuclear Station); for Duke Energy Carolinas, LLC (for Catawba Nuclear Station, Units 1 and 2; McGuire Nuclear Station, Unit Nos. 1 and 2; and Oconee Nuclear Station, Units 1, 2, and 3); for Energy Northwest (for Columbia Generating Station); for Vistra Operations Company LLC (for Comanche Peak Nuclear Power Plant, Unit Nos. 1 and 2); for Pacific Gas and Electric Company (for Diablo Canyon Nuclear Power Plant, Units 1 and 2); for Indiana Michigan Power Company (for Donald C. Cook Nuclear Plant, Unit Nos. 1 and 2); for Southern Nuclear Operating Co., Inc. (for Edwin I. Hatch Nuclear Plant, Unit Nos. 1 and 2; Joseph M. Farley Nuclear Plant, Units 1 and 2; and Vogtle Electric Generating Plant, Units 1 and 2); for DTE Electric Company (for Fermi-2); for Entergy Nuclear Operations, Inc. (for Indian Point Nuclear Generating Unit Nos. 2 and 3; and Palisades Nuclear Plant); for Dominion Energy Nuclear Connecticut, Inc. (for Millstone Power Station, Unit Nos. 1, 2, and 3); for Northern States Power Company (for Monticello Nuclear Generating Plant and Prairie Island Nuclear Generating Plant, Units 1 and 2); for Virginia Electric and Power Company (for North Anna Power Station, Unit Nos. 1 and 2; and Surry Power Station, Unit Nos. 1 and 2); for NextEra Energy Point Beach, LLC (for Point Beach Nuclear Plant, Units 1 and 2); for Florida Power & Light Company (for St. Lucie Plant, Unit Nos. 1 and 2); for NextEra Energy Seabrook, LLC (for Seabrook Station, Unit No. 1); STP Nuclear Operating Company (for South Texas Project, Units 1 and 2); for Susquehanna Nuclear LLC (for Susquehanna Steam Electric Station, Units 1 and 2), for Dominion Energy South Carolina, Inc. (for Virgil C. Summer Nuclear Station, Unit No. 1); and Entergy Operations, Inc. (for Waterford Steam Electric Station, Unit 3), will help to ensure that these regulatory requirements do not unduly limit licensee flexibility in using personnel resources in a manner that most effectively manages the impacts of the COVID-19 PHE on maintaining the safe and secure operation of these facilities and the implementation of the licensees' NRC approved security plans, protective strategy, and implementing procedures. These licensees have committed to certain security measures to ensure response readiness and for their security personnel to maintain performance capability.

The NRC is providing compiled tables of exemptions using a single Federal Register notice for COVID-19 related exemptions instead of issuing individual Federal Register notices for each exemption. The compiled tables in this notice provide transparency regarding the number and type of exemptions the NRC has issued. Additionally, the NRC publishes tables of approved regulatory actions related to the COVID-19 PHE on its public website at https://www.nrc.gov/about-nrc/covid-19/reactors/licensing-actions.html.

II. Availability of Documents

The tables in this notice provide the facility name, docket number, document description, and ADAMS accession number for each exemption issued. Additional details on each exemption issued, including the exemption request submitted by the respective licensee and the NRC's decision, are provided in each exemption approval listed in the tables in this notice. For additional directions on accessing information in ADAMS, see the ADDRESSES section of this document.

Document description | ADAMS accession No.
Beaver Valley Power Station, Units 1 and 2
Docket Nos. 50-334 and 50-412
Beaver Valley Power Station, Units 1 and 2 -Request for a One-Time Exemption from 10 CFR part 73, appendix B, section VI, subsection C.3.(1)(1) Regarding Annual Force-on-Force Exercises due to COVID-19 Pandemic, dated October 28, 2020 | ML20303A213.
Beaver Valley Power Station, Units 1 and 2—Exemption from Annual Force-on-Force Exercise Requirement of 10 CFR part 73, appendix B, “General Criteria for Security Personnel,” subsection VI.C.3.(l)(1) (EPID L-2020-LLE-0171 [COVID-19]), dated December 15, 2020 | ML20324A089.
Braidwood Station, Units 1 and 2
Docket Nos. 50-456 and 50-457
Exelon Generation—Request for Exemption from 10 CFR part 73, appendix B, section VI, subsection C.3.(I)(1) Regarding 2020 Annual Force-on-Force Exercises due to COVID-19 Public Health Emergency, dated November 13, 2020 | non-public, withheld pursuant to 10 CFR 2.390.
Braidwood Station, Units 1 and 2—Exemption from Annual Force-on-Force Exercise Requirements of 10 CFR part 73, appendix B, “General Criteria for Security Personnel,” subsection VI.C.3.(I)(1) (EPID L-2020-LLE-0198) [COVID-19], dated December 10, 2020 | ML20322A338.
Braidwood Station, Units 1 and 2
Docket Nos. 50-456 and 50-457
Braidwood Station, Units 1 and 2—COVID-19 Related Request for Exemption from 10 CFR part 26 Work Hours Requirements, dated November 17, 2020 | ML20323A008.
Braidwood Station, Units 1 and 2—Response to Request for Additional Information Related to Exemption from 10 CFR part 26 Requirements, dated November 23, 2020 | ML20328A215.
Braidwood Station, Units 1 and 2—Exemption from Select Requirements of 10 CFR part 26 (EPID L-2020-LLE-0207 [COVID-19]), dated December 1, 2020 | ML20324A002.
Browns Ferry Nuclear Plant, Units 1, 2, and 3
Docket Nos. 50-259, 50-260, and 50-296
Browns Ferry Nuclear Power Plant, Units 1, 2, and 3—Request for a One-Time Exemption from 10 CFR part 73, appendix B, section VI, subsection C.3.(I)(1) Regarding Annual Force-on-Force Exercises due to COVID-19 Pandemic, dated December 8, 2020 | ML20343A214.
Browns Ferry Nuclear Plant, Units 1, 2, and 3—Exemption from Annual Force-on-Force Exercise Requirement of 10 CFR part 73, appendix B, “General Criteria for Security Personnel,” subsection VI.C.3.(I)(1) (EPID L-2020-LLE-0233 [COVID-19]), dated December 15, 2020 | ML20343A363.
Brunswick Steam Electric Plant, Units 1 and 2
Docket Nos. 50-325 and 50-324
Duke Energy—Request for One-Time Exemption from 10 CFR part 73, appendix B, section VI, subsection C.3.(I)(1) Regarding Annual Force-on-Force Exercises due to COVID-19 Pandemic, dated November 4, 2020 | non-public, withheld pursuant to 10 CFR 2.390.
Duke Energy—Response to Request for Additional Information for One-Time Exemption from 10 CFR part 73, appendix B, section VI, subsection C.3.(I)(1) Regarding Annual Force-on-Force Exercises due to COVID-19 Pandemic, dated November 19, 2020 | non-public, withheld pursuant to 10 CFR 2.390.
Brunswick Steam Electric Plant, Units 1 and 2 Exemption from Annual Force-On-Force Exercise Requirements of 10 CFR part 73, appendix B, “General Criteria for Security Personnel,” subsection VI.C.3.(I)(1) (EPID L-2020-LLE-0180 [COVID-19]), dated December 17, 2020 | ML20338A329.
Byron Station, Unit Nos. 1 and 2
Docket Nos. 50-454 and 50-455
Exelon Generation—Request for Exemption from 10 CFR part 73, appendix B, section VI, subsection C.3.(I)(1) Regarding 2020 Annual Force-on-Force Exercises due to COVID-19 Public Health Emergency, dated November 13, 2020 | non-public, withheld pursuant to 10 CFR 2.390.
Byron Station, Unit Nos. 1 and 2—Exemption from Annual Force-on-Force Exercise Requirements of 10 CFR part 73, appendix B, “General Criteria for Security Personnel,” subsection VI.C.3(l)(1) (EPID L-2020-LLE-0199) [COVID-19], dated December 10, 2020 | ML20323A393.
Byron Station, Unit Nos. 1 and 2
Docket Nos. 50-454 and 50-455
Byron Station, Unit Nos. 1 and 2—Subsequent Request for Exemption from 10 CFR part 26 Work Hours Requirements, dated November 24, 2020 | ML20329A533.
Byron Station, Unit Nos. 1 and 2—Response to Request for Additional Information Related to Subsequent Exemption from 10 CFR part 26 Requirements, dated December 1, 2020 | ML20336A341.
Byron Station, Unit Nos. 1 and 2—Exemption from Select Requirements of 10 CFR part 26 (EPID L-2020-LLE-0218 [COVID-19]), dated December 2, 2020 | ML20332A017.
Calvert Cliffs Nuclear Power Plant, Units 1 and 2
Docket Nos. 50-317 and 50-318
Exelon Generation—Request for Exemption from 10 CFR part 73, appendix B, section VI, subsection C.3.(I)(1) Regarding 2020 Annual Force-on-Force Exercises due to COVID-19 Public Health Emergency, dated November 13, 2020 | ML20318A288.
Calvert Cliffs Nuclear Power Plant, Units 1 and 2—Exemption from Annual Force-on-Force Exercise Requirement of 10 CFR part 73, appendix B, “General Criteria for Security Personnel,” subsection VI.C.3(l)(1) (EPID L-2020-LLE-0194 [COVID-19]), dated December 11, 2020 | ML20321A243.
Catawba Nuclear Station, Units 1 and 2
Docket Nos. 50-413 and 50-414
Duke Energy—Request for One-Time Exemption from 10 CFR part 73, appendix B, section VI, subsection C.3.(I)(1), Regarding Annual Force-on-Force Exercises due to COVID-19 Pandemic, dated November 4, 2020 | non-public, withheld pursuant to 10 CFR 2.390.
Duke Energy—Response to Request for Additional Information for One-Time Exemption from 10 CFR part 73, appendix B, section VI, subsection C.3.(I)(1) Regarding Annual Force-on-Force Exercises due to COVID-19 Pandemic, dated November 19, 2020 | non-public, withheld pursuant to 10 CFR 2.390.
Catawba Nuclear Station, Units 1 and 2—Exemption from Annual Force-On-Force Exercise Requirements of 10 CFR part 73, appendix B, “General Criteria for Security Personnel,” subsection VI.C.3.(I)(1) (EPID L-2020-LLE-0180 [COVID-19]), dated December 17, 2020 | ML20337A128.
Clinton Power Station, Unit No. 1
Docket No. 50-461
Exelon Generation—Request for Exemption from 10 CFR part 73, appendix B, section VI, subsection C.3.(I)(1) Regarding 2020 Annual Force-on-Force Exercises due to COVID-19 Public Health Emergency, dated November 13, 2020 | non-public, withheld pursuant to 10 CFR 2.390.
Clinton Power Station, Unit No. 1—Exemption from Annual Force-on-Force Exercise Requirements of 10 CFR part 73, appendix B, “General Criteria for Security Personnel,” subsection VI.C.3(l)(1) (EPID L-2020-LLE-0200 [COVID-19]), dated December 11, 2020 | ML20323A434.
Clinton Power Station, Unit No. 1
Docket No. 50-461
Clinton Power Station, Unit No. 1—COVID-19 Related Request for Exemption from 10 CFR part 26 Work Hours Requirements, dated December 3, 2020 | ML20339A318.
Clinton Power Station, Unit No. 1—Exemption from Select Requirements of 10 CFR part 26 (EPID L-2020-LLE-0232 [COVID-19]), dated December 16, 2020 | ML20339A538.
Columbia Generating Station
Docket No. 50-397
Columbia Generating Station—Exemption Request from 10 CFR part 50, appendix E due to COVID-19 Pandemic, dated October 29, 2020 | ML20303A348.
Columbia Generating Station—Temporary Exemption from Biennial Emergency Preparedness Exercise Frequency Requirements of 10 CFR part 50, appendix E, sections IV.F.2.B and IV.F.2.C (EPID L-2020-LLE-0173 [COVID-19]), dated December 17, 2020 | ML20336A183.
Columbia Generating Station
Docket No. 50-397
Columbia Generating Station—Request for a One-Time Exemption from 10 CFR part 73, appendix B, section VI, subsection C.3.(I)(1) regarding Annual Force-On-Force Exercises due to COVID-19 Pandemic, dated October 29, 2020 | ML20303A286.
Columbia Generating Station—Response to Request for Additional Information Related to Request for a One-Time Exemption from 10 CFR part 73, appendix B, section VI, subsection C.3.(I)(1) Regarding Annual Force-On-Force Exercises due to COVID-19, dated December 3, 2020 | ML20338A541.
Columbia Generating Station—Exemption from Annual Force-On-Force Exercise Requirements of 10 CFR part 73, appendix B, “General Criteria for Security Personnel,” subsection VI.C.3.(I)(1) (EPID L-2020-LLE-0172 [COVID-19]), dated December 17, 2020 | ML20342A211.
Comanche Peak Nuclear Power Plant, Unit Nos. 1 and 2
Docket Nos. 50-445 and 50-446
Comanche Peak Nuclear Power Plant, Unit Nos. 1 and 2—Request for a One-Time Exemption from 10 CFR part 73, appendix B, section VI, subsection C.3.(I)(l) Regarding Annual Force-on-Force Exercises due to COVID-19 Pandemic, dated December 10, 2020 | ML20345A341.
Comanche Peak Nuclear Power Plant, Unit Nos. 1 and 2—Exemption from Annual Force-On-Force Exercise Requirement of 10 CFR part 73, appendix B, “General Criteria for Security Personnel,” subsection VI.C.3.(I)(1) (EPID L-2020-LLE-0235 [COVID-19]), dated December 22, 2020 | ML20350B666.
Comanche Peak Nuclear Power Plant, Unit Nos. 1 and 2
Docket Nos. 50-445 and 50-446
Comanche Peak Nuclear Power Plant, Unit Nos. 1 and 2—Request for Exemption from Specific Requirements of 10 CFR part 26, “Fitness for Duty Programs,” dated December 11, 2020 | ML20346A565.
Comanche Peak Nuclear Power Plant, Unit Nos. 1 and 2—Supplement to Request for Exemption from Specific Requirements of 10 CFR part 26, “Fitness for Duty Programs,” dated December 15, 2020 | ML20350B830.
Comanche Peak, Unit Nos. 1 and 2—Exemption from Selection from Requirements of 10 CFR part 26 (EPID L-2020-LLE-0236 [COVID-19]), dated December 16, 2020 | ML20349A038.
Cooper Nuclear Station
Docket No. 50-298
Cooper Nuclear Station—Request for a One-Time Exemption from 10 CFR part 73, appendix B, section VI, subsection C.3.(1)(1) Regarding Annual Force-on-Force Exercises due to COVID-19 Pandemic, dated October 27, 2020 | ML20309A663.
Cooper Nuclear Station—Exemption from Annual Force-On-Force Exercise Requirements of 10 CFR part 73, appendix B, “General Criteria for Security Personnel,” subsection VI.C.3.(I)(1) (EPID L-2020-LLE-0178 [COVID-19]), dated December 11, 2020 | ML20323A237.
Davis-Besse Nuclear Power Station, Unit No. 1
Docket No. 50-346
Davis-Besse Nuclear Power Station, Unit No. 1—Request for a One-Time Exemption from 10 CFR part 73, appendix B, section VI, subsection C.3.(I)(1) Regarding Annual Force-on-Force Exercises due to COVID-19 Pandemic, dated October 29, 2020 | ML20304A046.
Davis-Besse Nuclear Power Station, Unit No. 1—Response to Request for Additional Information Regarding Request for Exemption—10 CFR part 73 Force-on-Force Exercises (EPID L-2020-LLE-0175), dated December 7, 2020 | ML20342A199.
Davis-Besse Nuclear Power Station, Unit No. 1—Exemption from Annual Force-on-Force Exercise Requirement of 10 CFR part 73, appendix B, “General Criteria for Security Personnel,” subsection VI.C.3.(I)(1) (EPID L-2020-LLE-0175 [COVID-19]), dated December 15, 2020 | ML20345A205.
Diablo Canyon Nuclear Power Plant, Units 1 and 2
Docket Nos. 50-275 and 50-323
Diablo Canyon Nuclear Power Plant, Units 1 and 2—Request for a One-Time Exemption from 10 CFR part 73, appendix B, section VI, subsection C.3.(I)(1) Regarding Annual Force-on-Force Exercises due to COVID-19 Pandemic, dated October 14, 2020 | non-public, withheld pursuant to 10 CFR 2.390.
Diablo Canyon Nuclear Power Plant, Units 1 and 2—Response to Request for Additional Information Regarding Request for a One-Time Exemption from 10 CFR part 73, appendix B, section VI, subsection C.3.(I)(1) Regarding Annual Force-on-Force Exercises due to COVID-19 Pandemic, dated December 3, 2020 | non-public, withheld pursuant to 10 CFR 2.390.
Diablo Canyon Nuclear Power Plant, Units 1 and 2—Exemption from Annual Force-On-Force Exercise Requirement of 10 CFR part 73, appendix B, “General Criteria for Security Personnel,” subsection VI.C.3.(I)(1) (EPID L-2020-LLE-0166 [COVID-19]), dated December 17, 2020 | ML20346A024.
Diablo Canyon Nuclear Power Plant, Units 1 and 2
Docket Nos. 50-275 and 50-323
Diablo Canyon Power Plant, Units 1 and 2—Request for a One-Time Exemption from 10 CFR part 73, appendix B, section VI, subsection F.5.(a) Regarding Firearms Requalification due to COVID-19 Pandemic, dated October 14, 2020 | non-public, withheld pursuant to 10 CFR 2.390.
Diablo Canyon Nuclear Power Plant, Units 1 and 2—Response to Request for Additional Information Regarding Request for a One-Time Exemption from 10 CFR part 73, appendix B, section VI, subsection F.5.(a) Regarding Firearms Requalification due to COVID-19 Pandemic, dated December 3, 2020 | non-public, withheld pursuant to 10 CFR 2.390.
Diablo Canyon Nuclear Power Plant, Units 1 and 2—Exemption from Annual Firearms Tactical Qualification Course Requirement of 10 CFR part 73, appendix B, “General Criteria for Security Personnel,” subsection VI.F.5.(a) (EPID L-2020-LLE-0167 [COVID-19]), dated December 18, 2020 | ML20346A120.
Donald C. Cook Nuclear Plant, Units Nos. 1 and 2
Docket Nos. 50-315 and 50-316
Donald C. Cook Nuclear Plant, Unit Nos. 1 and 2—Request for a One-Time Exemption from 10 CFR part 73, appendix B, section VI, subsection C.3.(I)(1) Regarding Annual Force-on-Force Exercises due to COVID-19 Pandemic, dated November 4, 2020 | ML20318A034.
Donald C. Cook Nuclear Plant, Unit Nos. 1 and 2—Exemption from Certain Requirements of 10 CFR part 73, appendix B, “General Criteria for Security Personnel,” section VI (EPID L-2020-LLE-0182 [COVID-19]), dated December 8, 2020 | ML20324A003.
Donald C. Cook Nuclear Plant, Units Nos. 1 and 2
Docket Nos. 50-315 and 50-316
Donald C. Cook Nuclear Plant, Unit Nos. 1 and 2—Request for a One-Time Exemption from 10 CFR 26.205(d) due to COVID-19 Pandemic, dated November 30, 2020 | ML20338A324.
Donald C. Cook Nuclear Plant, Unit Nos. 1 and 2—Exemption from Select Requirements of 10 CFR part 26 (EPID L-2020-LLE-0221 [COVID-19]), dated December 3, 2020 | ML20336A111.
Dresden Nuclear Power Station, Units 2 and 3
Docket Nos. 50-237 and 50-249
Exelon Generation—Request for Exemption from 10 CFR part 73, appendix B, section VI, subsection C.3.(I)(1) Regarding 2020 Annual Force-on-Force Exercises due to COVID-19 Public Health Emergency, dated November 13, 2020 | non-public, withheld pursuant to 10 CFR 2.390.
Dresden Nuclear Power Station, Units 2 and 3—Exemption from Annual Force-On-Force Exercise Requirements of 10 CFR part 73, appendix B, “General Criteria for Security Personnel,” subsection VI.C.3.(I)(1) (EPID L-2020-LLE-0203 [COVID-19]), dated December 14, 2020 | ML20322A303.
Edwin I. Hatch Nuclear Plant, Unit Nos. 1 and 2
Docket Nos. 50-321 and 50-366
Request for One-Time Exemptions from 10 CFR part 73, appendix B, section VI, subsection C.3.(I)(1) Regarding Annual Force-on-Force Exercises due to COVID-19 Pandemic, dated November 6, 2020 | ML20311A662.
Edwin I. Hatch Nuclear Plant, Unit Nos. 1 and 2—Exemption from Annual Force-on-Force Exercise Requirement of 10 CFR part 73, appendix B, “General Criteria for Security Personnel,” subsection VI.C.3.(l)(1) (EPID L-2020-LLE-0215 [COVID-19]), dated December 4, 2020 | ML20329A488.
Fermi-2
Docket No. 50-341
Fermi-2—Request for One-Time Exemption from 10 CFR part 50, appendix E, “Biennial Emergency Preparedness Exercise Requirements,” due to COVID-19 Pandemic, dated November 12, 2020 | ML20317A203.
Fermi-2—Temporary Exemption from Biennial Emergency Preparedness Exercise Frequency Requirements of 10 CFR part 50, appendix E, sections IV.F.2.B and IV.F.2.C (EPID L-2020-LLE-0188 [COVID-19]), dated December 8, 2020 | ML20332A179.
Fermi-2
Docket No. 50-341
Fermi-2—Request for Exemption from the Annual Force-on-Force Training Requirements of 10 CFR part 73, appendix B, section VI due to the COVID-19 Public Health Emergency, dated November 13, 2020 | ML20318A383.
Fermi-2—Response to Request for Additional Information Regarding Exemption from the Annual Force-on-Force Training Requirements of 10 CFR part 73, appendix B, section VI due to the COVID-19 Public Health Emergency, dated December 3, 2020 | ML20338A333.
Fermi-2—Exemption from Annual Force-on-Force Exercise Requirement of 10 CFR part 73, appendix B, “General Criteria for Security Personnel,” subsection VI.C.3.(l)(1) (EPID L-2020-LLE-0204 [COVID-19]), dated December 18, 2020 | ML20343A350.
Hope Creek Generating Station
Docket No. 50-354
Salem Nuclear Generating Station, Unit Nos. 1 and 2
Docket Nos. 50-272 and 50-311
Hope Creek Generating Station and Salem Generating Station, Units Nos. 1 and 2—Exemption Request from 10 CFR part 50, appendix E, “Biennial Emergency Preparedness Exercise Requirements,” due to COVID-19 Pandemic, dated October 13, 2020 | ML20287A628.
Hope Creek Generating Station and Salem Nuclear Generating Station, Unit Nos. 1 and 2—Temporary Exemption from the Exercise Requirements of 10 CFR part 50, appendix E, sections IV.F.2.B and IV.F.2.C (EPID L-2020-LLE-0164 [COVID-19]), dated December 7, 2020 | ML20315A434.
Hope Creek Generating Station
Docket No. 50-354
Salem Nuclear Generating Station, Unit Nos. 1 and 2
Docket Nos. 50-272 and 50-311
Hope Creek Generating Station and Salem Generating Station, Unit Nos. 1 and 2—Request for Exemption from Specific Requirements of 10 CFR part 26, “Fitness for Duty Programs,” dated December 23, 2020 | ML20358A186.
Hope Creek Generating Station and Salem Nuclear Generating Station, Unit Nos. 1 and 2—Exemption from Select Requirements of 10 CFR part 26 (EPID L-2020-LLE-0239 [COVID-19]), dated December 28, 2020 | ML20358A281.
Indian Point Nuclear Generating Station, Unit Nos. 1, 2, and 3
Docket Nos. 50-003, 50-247, and 50-286
Indian Point Nuclear Generating Station, Unit Nos. 1, 2, and 3—One-time Scheduler Exemption Request from 10 CFR part 50, appendix E, “Biennial Emergency Preparedness Exercise Requirements,” due to COVID-19 Public Health Emergency, dated October 8, 2020 | ML20282A612.
Indian Point Nuclear Generating Station, Unit Nos. 1, 2, and 3—Supplement to One-Time Exemption Request from 10 CFR part 50, appendix E, “Biennial Emergency Preparedness Exercise Requirements” (EPID L-2020-LLE-0160 [COVID-19]), dated November 12, 2020 | ML20317A344.
Indian Point Nuclear Generating Station, Unit Nos. 1, 2, and 3—Temporary Exemption from Exercise Frequency Requirements of 10 CFR part 50, appendix E, section IV.F.2.B (EPID L-2020-LLE-0160 [COVID-19]), dated December 8, 2020 | ML20320A000.
Indian Point Nuclear Generating Unit Nos. 2 and 3
Docket Nos. 50-247 and 50-286
Indian Point Nuclear Generating Unit Nos. and 3—Request for a One-Time Exemption from 10 CFR 73, appendix B, section VI, subsection C.3.(I)(1) Regarding Annual Force-on-Force (FOF) Exercises, Due to COVID 19 Pandemic, dated November 12, 2020 | ML20317A299.
Indian Point Nuclear Generating Unit Nos. 2 and 3—Exemption from Annual Force-on-Force Exercise Requirement of 10 CFR part 73, appendix B, “General Criteria for Security Personnel,” subsection VI.C.3.(I)(1) (EPID L-2020-LLE-0189 [COVID-19]), dated December 14, 2020 | ML20321A121.
James A. FitzPatrick Nuclear Power Plant
Docket No. 50-333
Exelon Generation—Request for Exemption from 10 CFR part 73, appendix B, section VI, subsection C.3.(I)(1) Regarding 2020 Annual Force-on-Force Exercises due to COVID-19 Public Health Emergency, dated November 13, 2020 | ML20318A288.
James A. Fitzpatrick Nuclear Power Plant—Exemption from Annual Force-On-Force Exercise Requirements of 10 CFR part 73, appendix B, “General Criteria for Security Personnel,” subsection VI.C.3.(I)(1) (EPID L-2020-LLE-0197 [COVID 19]), dated December 8, 2020 | ML20337A004.
Joseph M. Farley Nuclear Plant, Units 1 and 2
Docket Nos. 50-348 and 50-364
Request for One-Time Exemptions from 10 CFR part 73, appendix B, section VI, subsection C.3.(I)(1) Regarding Annual Force-on-Force Exercises due to COVID-19 Pandemic, dated November 6, 2020 | ML20311A662.
Joseph M. Farley Nuclear Plant, Units 1 and 2—Exemption from Certain Requirements of 10 CFR part 73, appendix B, “General Criteria for Security Personnel,” subsection VI C.3.(I)(1) (EPID L-2020-LLE-0183 [COVID-19]), dated December 4, 2020 | ML20315A374.
H. B. Robinson Steam Electric Plant, Unit No. 2
Docket No. 50-261
Duke Energy—Request for One-Time Exemption from 10 CFR part 73, appendix B, section VI, subsection C.3.(I)(1) Regarding Annual Force-on-Force Exercises due to COVID-19 Pandemic, dated November 4, 2020 | non-public, withheld pursuant to 10 CFR 2.390.
Duke Energy—Response to Request for Additional Information for One-Time Exemption from 10 CFR part 73, appendix B, section VI, subsection C.3.(I)(1) Regarding Annual Force-on-Force Exercises due to COVID-19 Pandemic, dated November 19, 2020 | non-public, withheld pursuant to 10 CFR 2.390.
H. B. Robinson Steam Electric Plant, Unit No. 2—Exemption from Annual Force-On-Force Exercise Requirements of 10 CFR part 73, appendix B, “General Criteria for Security Personnel,” subsection VI.C.3.(I)(1), dated December 17, 2020 | ML20339A521.
LaSalle County Station, Units 1 and 2
Docket Nos. 50-373 and 50-374
LaSalle County Station, Units 1 and 2—Request for Exemption from the Biennial Emergency Preparedness Exercise Requirements in 10 CFR part 50, appendix E, section IV.F.2.b, dated November 23, 2020 | ML20328A292.
LaSalle County Station, Units 1 and 2—Supplemental Information Regarding Request for Exemption from the Biennial Emergency Preparedness Exercise Requirements of 10 CFR part 50, appendix E, section IV.F.2.b, dated December 7, 2020 | ML20342A259.
LaSalle County Station, Units 1 and 2—Temporary Exemption from Biennial Emergency Preparedness Exercise Frequency Requirements of 10 CFR part 50, appendix E, section IV.F.2.b (EPID-L-2020-LLE-0223 [COVID-19]), dated December 18, 2020 | ML20346A014.
LaSalle County Station, Units 1 and 2
Docket Nos. 50-373 and 50-374
Exelon Generation—Request for Exemption from 10 CFR part 73, appendix B, section VI, subsection C.3.(I)(1) Regarding 2020 Annual Force-on-Force Exercises due to COVID-19 Public Health Emergency, dated November 13, 2020 | non-public, withheld pursuant to 10 CFR 2.390.
LaSalle County Station, Units 1 and 2—Exemption from Annual Force-on-Force Exercise Requirements of 10 CFR part 73, appendix B, “General Criteria for Security Personnel,” subsection VI.C.3(l)(1) (EPID L-2020-LLE-0191 [COVID-19]), dated December 9, 2020 | ML20324A104.
LaSalle County Station, Units 1 and 2
Docket Nos. 50-373 and 50-374
LaSalle County Station, Units 1 and 2- COVID-19 Related Request for Exemption from 10 CFR part 26 Work Hours Requirements, dated November 24, 2020 | ML20329A301.
LaSalle County Station, Units 1 and 2—Exemption from Select Requirements of 10 CFR part 26 (EPID L-2020-LLE-0217 [COVID-19]), dated December 1, 2020 | ML20330A326.
Limerick Generating Station, Units 1 and 2
Docket Nos. 50-352 and 50-353
Exelon Generation—Limerick Generating Station, Units 1 and 2—Request for Exemption from 10 CFR part 73, appendix B, section VI, subsection C.3.(I)(1) Regarding 2020 Annual Force-on-Force Exercises due to COVID-19 Public Health Emergency, dated November 13, 2020 | ML20318A288.
Limerick Generating Station, Units 1 and 2—Exemption from Annual Force-on-Force Exercise Requirement of 10 CFR part 73, appendix B, “General Criteria for Security Personnel,” subsection VI.C.3.(l)(1) (EPID L-2020-LLE-0201 [COVID-19]), dated December 10, 2020 | ML20330A295.
McGuire Nuclear Station, Unit Nos. 1 and 2
Docket Nos. 50-369 and 50-370
Duke Energy—Request for One-Time Exemption from 10 CFR part 73, appendix B, section VI, subsection C.3.(I)(1) Regarding Annual Force-on-Force Exercises due to COVID-19 Pandemic, dated November 4, 2020 | non-public, withheld pursuant to 10 CFR 2.390.
Duke Energy—Response to Request for Additional Information for One-Time Exemption from 10 CFR part 73, appendix B, section VI, subsection C.3.(I)(1) Regarding Annual Force-on-Force Exercises due to COVID-19 Pandemic, dated November 19, 2020 | non-public, withheld pursuant to 10 CFR 2.390.
McGuire Nuclear Station, Unit Nos. 1 and 2—Exemption from Annual Force-on-Force Exercise Requirements of 10 CFR part 73, appendix B, “General Criteria for Security Personnel,” subsection VI.C.3.(I)(1) (EPID L-2020-LLE-0180) [COVID-19], dated December 9, 2020 | ML20330A321.
Millstone Power Station, Unit Nos. 1, 2, and 3
Docket Nos. 50-245, 50-336, and 50-423
Millstone Power Station, Unit Nos. 1, 2, and 3—Request for a One-Time Exemption from 10 CFR part 73, appendix B, section VI, subsection C.3.(1)(1) Regarding Annual Force-On-Force Exercises due to COVID-19 Pandemic, dated December 3, 2020 | non-public, withheld pursuant to 10 CFR 2.390.
Millstone Power Station, Unit Nos. 1, 2, and 3—Exemption from Annual Force-on-Force Exercise Requirement of 10 CFR part 73, appendix B, “General Criteria for Security Personnel,” subsection VI.C.3.(I)(1) (EPID L-2020-LLE-0227 [COVID-19]), dated December 16, 2020 | ML20338A552.
Monticello Nuclear Generating Plant
Docket No. 50-263
Monticello and Prairie Island—Request for a One-Time Exemption from 10 CFR part 73, appendix B, section VI, subsection C.3(l)(1) Regarding Annual Force-on-Force Exercises due to COVID-19 Pandemic, dated October 30, 2020 | non-public, withheld pursuant to 10 CFR 2.390.
Response to Request for Additional Information Regarding Request for a One-Time Exemption from 10 CFR part 73, appendix B, section VI, subsection C.3(l)(1) Regarding Annual Force-on-Force Exercises due to COVID-19 Pandemic, dated December 14, 2020 | non-public, withheld pursuant to 10 CFR 2.390.
Monticello Nuclear Generating Plant—Exemption from Certain Requirements of 10 CFR part 73, appendix B, “General Criteria for Security Personnel,” subsection VI.C.3.(I)(1) (EPID L-2020-LLE-0174 [COVID-19]), dated December 22, 2020 | ML20317A136.
Nine Mile Point Nuclear Station, Units 1 and 2
Docket Nos. 50-220 and 50-410
Exelon Generation—Request for Exemption from 10 CFR part 73, appendix B, section VI, subsection C.3.(I)(1) Regarding 2020 Annual Force-on-Force Exercises due to COVID-19 Public Health Emergency, dated November 13, 2020 | ML20318A288.
Nine Mile Point Nuclear Station, Units 1 and 2—Exemption from Annual Force-on-Force Exercise Requirement of 10 CFR part 73, appendix B, “General Criteria for Security Personnel,” subsection VI.C.3.(I)(1) (EPID L-2020-LLE-0195 [COVID-19]), dated December 14, 2020 | ML20321A290.
North Anna Power Station, Unit Nos. 1 and 2
Docket Nos. 50-338 and 50-339
North Anna Power Station, Unit Nos. 1 and 2—Request for One-Time Schedular Exemption from Offsite Biennial Emergency Preparedness Exercise Requirement in 10 CFR part 50, appendix E, section IV.F.2.c, dated November 10, 2020 | ML20317A162.
North Anna Power Station, Unit Nos. 1 and 2—Temporary Exemption from Biennial Emergency Preparedness Exercise Frequency Requirements of 10 CFR part 50, appendix E, section IV.F.2.C (EPID L-2020-LLE-0184 [COVID-19]), dated December 8, 2020 | ML20324A222.
North Anna Power Station, Unit Nos. 1 and 2
Docket Nos. 50-338 and 50-339
North Anna Power Station, Unit Nos. 1 and 2—Request for a One-Time Exemption from 10 CFR part 73, appendix B, section VI, subsection C.3.(I)(1) Regarding Annual Force-On-Force Exercises due to COVID-19 Pandemic, dated December 3, 2020 | non-public, withheld pursuant to 10 CFR 2.390.
North Anna Power Station, Units Nos. 1 and 2—Exemption from Annual Force-On Force Exercise Requirement of 10 CFR part 73, appendix B, “General Criteria for Security Personnel,” subsection VI.C.3.(I)(1) (EPID L-2020-LLE-0231 [COVID-19]), dated December 15, 2020 | ML20342A293.
Oconee Nuclear Station, Units 1, 2, and 3
Docket Nos. 50-269, 50-270, and 50-287
Duke Energy—Request for One-Time Exemption from 10 CFR part 73, appendix B, section VI, subsection C.3.(I)(1) Regarding Annual Force-on-Force Exercises due to COVID-19 Pandemic, dated November 4, 2020 | non-public, withheld pursuant to 10 CFR 2.390.
Duke Energy—Response to Request for Additional Information for One-Time Exemption from 10 CFR part 73, appendix B, section VI, subsection C.3.(I)(1) Regarding Annual Force-on-Force Exercises due to COVID-19 Pandemic, dated November 19, 2020 | non-public, withheld pursuant to 10 CFR 2.390.
Oconee Nuclear Station, Units 1, 2, and 3—Exemption from Annual Force-On-Force Exercise Requirements of 10 CFR part 73, appendix B, “General Criteria for Security Personnel,” subsection VI.C.3.(I)(1) (EPID L-2020-LLE-0180 [COVID-19]), dated December 17, 2020 | ML20344A004.
Oregon State University
Docket No. 50-243
Oregon State University—Extension of Timeframe Required to Complete Biennial Emergency Exercise per Oregon State TRIGA Reactor Emergency Response Plan, dated November 3, 2020 | ML20318A035.
Oregon State University—Extension of Timeframe required to Complete Biennial Emergency Exercise per Oregon State TRIGA Reactor Emergency Response Plan, dated December 10, 2020 | ML20350B726.
Oregon State University—Temporary Exemption from the Requirements of 10 CFR part 50, appendix E, section IV.F.2.b Related to Biennial Emergency Exercise [COVID-19], dated December 18, 2020 | ML20318A380.
Palisades Nuclear Plant
Docket No. 50-255
Palisades Nuclear Plant—Request for One-Time Exemption from 10 CFR part 50, appendix E, “Biennial Emergency Preparedness Exercise Requirements,” due to COVID-19 Pandemic, dated September 30, 2020 | ML20275A110.
Palisades Nuclear Plant—Temporary Exemption from Biennial Emergency Preparedness Exercise Frequency Requirements of 10 CFR part 50, appendix E, section IV.F (EPID L-2020-LLE-0155 [COVID-19]), dated December 9, 2020 | ML20308A607.
Palisades Nuclear Plant
Docket No. 50-255
Palisades Nuclear Plant—Request for a One-Time Exemption from 10 CFR part 73, appendix B, section VI, subsection C.3.(I)(1) Regarding Annual Force-on-Force Exercises due to COVID-19 Pandemic, dated November 12, 2020 | ML20317A300.
Palisades Nuclear Plant—Exemption from Annual Force-on-Force Exercise Requirements of 10 CFR part 73, appendix B, “General Criteria for Security Personnel,” subsection VI.C.3.(I)(1) (EPID L-2020-LLE-0190 [COVID-19]), dated December 3, 2020 | ML20330A000.
Palo Verde Nuclear Generating Station, Units 1, 2, and 3
Docket Nos. 50-528, 50-529, 50-530
Palo Verde Nuclear Generating Station, Units 1, 2, and 3, and Independent Spent Fuel Storage Installation—Subsequent Request for Exemption from Specific Requirements of 10 CFR part 26, “Fitness for Duty Programs,” dated December 21, 2020 | ML20356A292.
Palo Verde Nuclear Generating Station, Units 1, 2, and 3—Subsequent Request for Exemption from Select Requirements of 10 CFR part 26 (EPID L-2020-LLE-0238 [COVID-19]), dated December 23, 2020 | ML20357A055.
Peach Bottom Atomic Power Station, Units 2 and 3
Docket Nos. 50-277 and 50-278
Exelon Generation—Request for Exemption from 10 CFR part 73, appendix B, section VI, subsection C.3.(I)(1) Regarding 2020 Annual Force-on-Force Exercises due to COVID-19 Public Health Emergency, dated November 13, 2020 | ML20318A288.
Peach Bottom Atomic Power Station, Units 2 and 3—Exemption from Annual Force-on-Force Exercise Requirement of 10 CFR part 73, appendix B, “General Criteria for Security Personnel,” subsection VI.C.3.(l)(1) (EPID L-2020-LLE-0192 [COVID-19]), dated December 10, 2020 | ML20325A017.
Perry Nuclear Power Plant, Unit No. 1
Docket No. 50-440
Perry Nuclear Power Plant, Unit No. 1—Request for a One-Time Exemption from 10 CFR part 73, appendix B, section VI, subsection C.3.(1)(1) Regarding Annual Force-on-Force Exercises due to COVID-19 Pandemic, dated October 29, 2020 | ML20304A191.
Perry Nuclear Power Plant, Unit No. 1—Response to Request for Additional Information Regarding Request for Exemption—10 CFR part 73 Force-on-Force Exercises (EPID L-2020-LLE-0176), dated November 25, 2020 | ML20335A531.
Perry Nuclear Power Plant, Unit No. 1—Exemption from Certain Requirements of 10 CFR part 73, appendix B, section VI.C.3.(I)(1) Re: Annual Force-on-Force Exercise for CY 2020 (EPID L-2020-LLE-0176 [COVID-19]), dated December 14, 2020 | ML20309A135.
Point Beach Nuclear Plant, Units 1 and 2
Docket Nos. 50-266 and 50-301
Point Beach Nuclear Plant, Units 1 and 2—Request for a One-Time Exemption from 10 CFR part 73, appendix B, section VI, subsection C.3.(1)(1) Regarding Annual Force-on-Force Exercises due to COVID-19 Pandemic, dated November 19, 2020 | non-public, withheld pursuant to 10 CFR 2.390.
Point Beach Nuclear Plant, Units 1 and 2—Response to Request for Additional Information, Request for Exemption from 10 CFR part 73, appendix B, section VI Regarding Annual Force-On-Force Exercise, dated December 8, 2020 | non-public, withheld pursuant to 10 CFR 2.390.
Point Beach Nuclear Plant, Units 1 and 2—Exemption from Annual Force-on-Force Exercise Requirement of 10 CFR part 73, appendix B, “General Criteria for Security Personnel,” subsection VI.C.3.(I)(1) (EPID L-2020-LLE-0210 [COVID-19]), dated December 15, 2020 | ML20345A000.
Prairie Island Nuclear Generating Plant, Units 1 and 2
Docket Nos. 50-282 and 50-306
Monticello and Prairie Island—Request for a One-Time Exemption from 10 CFR part 73, appendix B, section VI, subsection C.3(l)(1) Re: Annual Force-on-Force Exercises due to COVID-19 Pandemic, dated October 30, 2020 | non-public, withheld pursuant to 10 CFR 2.390.
Response to Request for Additional Information, Request for a One-Time Exemption from 10 CFR part 73, appendix B, section VI, subsection C.3(l)(1) Regarding Annual Force-on-Force Exercises due to COVID-19 Pandemic, dated December 14, 2020 | non-public, withheld pursuant to 10 CFR 2.390.
Prairie Island Nuclear Generating Plant, Units 1 and 2—Exemption from Certain Requirements of 10 CFR part 73, appendix B, “General Criteria for Security Personnel,” subsection VI.C.3.(I)(1) (EPID L-2020-LLE-0177 [COVID-19]), dated December 21, 2020 | ML20317A259.
Quad Cities Nuclear Power Station, Units 1 and 2
Docket Nos. 50-254 and 50-265
Exelon Generation—Request for Exemption from 10 CFR part 73, appendix B, section VI, subsection C.3.(I)(1) Regarding 2020 Annual Force-on-Force Exercises due to COVID-19 Public Health Emergency, dated November 13, 2020 | non-public, withheld pursuant to 10 CFR 2.390.
Quad Cities Nuclear Power Station, Units 1 and 2—Exemption from Annual Force-on-Force Exercise Requirement of 10 CFR part 73, appendix B, “General Criteria for Security Personnel,” subsection VI.C.3.(I)(1) (EPID L-2020-LLE-0193 [COVID-19]), dated December 4, 2020 | ML20332A175.
Quad Cities Nuclear Power Station, Units 1 and 2
Docket Nos. 50-254 and 50-265
Quad Cities Nuclear Power Station, Units 1 and 2—COVID-19 Related Request for Exemption from 10 CFR part 26 Work Hours Requirements, dated December 4, 2020 | ML20339A474.
Quad Cities Nuclear Power Station, Units 1 and 2—Exemption from Select Requirements of 10 CFR part 26 (EPID L-2020-LLE-0228 [COVID-19]), dated December 17, 2020 | ML20343A027.
R. E. Ginna Nuclear Power Plant
Docket No. 50-244
Exelon Generation—Request for One-Time Exemptions from 10 CFR part 73, appendix B, section VI, subsection C.3.(I)(1) Regarding Annual Force-on-Force Exercises due to COVID-19 Pandemic, dated November 13, 2020 | ML20318A288.
R. E. Ginna Nuclear Power Plant—Exemption from Annual Force-on-Force Exercise Requirement of 10 CFR part 73, appendix B, “General Criteria for Security Personnel,” subsection VI.C.3.(l)(1) (EPID L-2020-LLE-0202 [COVID-19]), dated December 10, 2020 | ML20330A291.
River Bend Station, Unit 1
Docket No. 50-458
River Bend Station, Unit 1—One-Time Schedular Exemption Request from 10 CFR part 50, appendix E, “Biennial Emergency Preparedness Exercise Requirements,” due to COVID-19 Public Health Emergency, dated December 3, 2020 | ML20338A539.
River Bend Station, Unit 1—Temporary Exemption from Biennial Emergency Preparedness Exercise Frequency Requirements of 10 CFR part 50, appendix E, section IV.F.2.b (EPID-L-2020-LLE-0212 [COVID-19]), dated December 22, 2020 | ML20344A135.
St. Lucie Plant, Unit Nos. 1 and 2
Docket Nos. 50-335 and 50-389
St. Lucie Plant, Unit Nos. 1 and 2—Request for a One-Time Exemption from 10 CFR part 73, appendix B, section VI, subsection C.3.(I)(1) Regarding Annual Force-on-Force Exercises due to COVID-19 Pandemic, dated December 9, 2020 | non-public, withheld pursuant to 10 CFR 2.390.
St. Lucie Plant, Unit Nos. 1 and 2—Exemption from Annual Force-on-Force Exercise Requirement of 10 CFR part 73, appendix B, “General Criteria for Security Personnel,” subsection VI.C.3.(I)(1) (EPID L-2020-LLE-0234) [COVID-19], dated December 18, 2020 | ML20352A118.
Seabrook Station, Unit No. 1
Docket No. 50-443
Seabrook Station, Unit No. 1—Request for a One-Time Exemption from 10 CFR part 73, appendix B, section VI, subsection C.3.(1)(1) Regarding Annual Force-on-Force Exercises due to COVID-19 Pandemic, dated November 23, 2020 | ML20329A205.
Seabrook Station, Unit No. 1—Response to Request for Additional Information in Response to One-Time Exemption from 10 CFR part 73, appendix B, section VI, subsection C.3.(I)(1) Regarding Annual Force-on-Force Exercises due to COVID-19 Pandemic, dated December 8, 2020 | ML20343A112.
Seabrook Station, Unit No. 1—Exemption from Annual Force-On-Force Exercise Requirements of 10 CFR part 73, appendix B, “General Criteria for Security Personnel,” subsection VI.C.3.(I)(1) (EPID L-2020-LLE-0219 [COVID-19]), dated December 16, 2020 | ML20336A006.
Seabrook Station, Unit No. 1
Docket No. 50-443
Seabrook Station, Unit No. 1—One-Time Exemption Request for the Biennial Emergency Preparedness Exercise Requirements of 10 CFR part 50, appendix E, sections IV.F.2.b and IV.F.2.c, dated December 3, 2020 | ML20338A493.
Seabrook Station, Unit No. 1—Exemption from Requirements of 10 CFR part 50, appendix E, sections IV.F.2.B and IV.F.2.C (EPID L-2020-LLE-0229 and EPID L-2020-LLE-0230 [COVID-19]), dated December 21, 2020 | ML20345A119.
Shearon Harris Nuclear Power Plant, Unit 1
Docket No. 50-400
Duke Energy—Request for One-Time Exemption from 10 CFR part 73, appendix B, section VI, subsection C.3.(I)(1) Regarding Annual Force-on-Force Exercises due to COVID-19 Pandemic, dated November 4, 2020 | non-public, withheld pursuant to 10 CFR 2.390.
Duke Energy—Response to Request for Additional Information for One-Time Exemption from 10 CFR part 73, appendix B, section VI, subsection C.3.(I)(1) Regarding Annual Force-on-Force Exercises due to COVID-19 Pandemic, dated November 19, 2020 | non-public, withheld pursuant to 10 CFR 2.390.
Shearon Harris Nuclear Power Plant, Unit No. 1—Exemption from Annual Force-on-Force Exercise Requirements of 10 CFR part 73, appendix B, “General Criteria for Security Personnel,” subsection VI.C.3(l)(1) (EPID L-2020-LLE-0180 [COVID-19]), dated December 17, 2020 | ML20330A301.
South Texas Project, Units 1 and 2
Docket Nos. 50-498 and 50-499
South Texas Project, Units 1 and 2—Request for a One-Time Exemption from 10 CFR part 73, appendix B, section VI, subsection C.3.(1)(1) Regarding Annual Force-on-Force Exercises due to COVID-19 Pandemic, dated November 16, 2020 | ML20321A331.
South Texas Project, Units 1 and 2—Exemption from Annual Force-on-Force Exercise Requirement of 10 CFR part 73, appendix B, “General Criteria for Security Personnel,” subsection VI.C.3.(I)(1) (EPID L-2020-LLE-0205 [COVID-19]), dated December 10, 2020 | ML20330A312.
Surry Power Station, Unit Nos. 1 and 2
Docket Nos. 50-280 and 50-281
Surry Power Station, Unit Nos. 1 and 2—Request for a One-Time Exemption from 10 CFR part 73, appendix B, section VI, subsection C.3.(I)(1) Regarding Annual Force-On-Force Exercises due to COVID-19 Pandemic, dated December 3, 2020 | non-public, withheld pursuant to 10 CFR 2.390.
Surry Power Station, Unit Nos. 1 and 2—Exemption from Annual Force-on-Force Exercise Requirement of 10 CFR part 73, appendix B, “General Criteria for Security Personnel,” subsection VI.C.3.(I)(1) (EPID L-2020-LLE-0226 [COVID-19]), dated December 14, 2020 | ML20339A645.
Susquehanna Steam Electric Station, Units 1 and 2
Docket Nos. 50-387 and 50-388
Susquehanna Steam Electric Station—Request for One-Time Exemption From 10 CFR part 73, appendix B, section VI, subsection C.3.(1)(1) Regarding Annual Force-On-Force Exercises due to COVID-19 Pandemic, dated November 24, 2020 | ML20329A335.
Susquehanna Steam Electric Station, Units 1 and 2—Exemption from Annual Force-on-Force Exercise Requirement of 10 CFR part 73, appendix B, “General Criteria for Security Personnel,” subsection VI.C.3.(I)(1) (EPID L-2020-LLE-0222), dated December 17, 2020 | ML20344A458.
Virgil C. Summer Nuclear Station, Unit No. 1
Docket No. 50-395
Virgil C. Summer Nuclear Station, Unit No. 1—Request for a One-Time Exemption from 10 CFR part 73, appendix B, section VI, subsection C.3.(I)(1) Regarding Annual Force-On-Force Exercises due to COVID-19 Pandemic, dated December 3, 2020 | non-public, withheld pursuant to 10 CFR 2.390.
Virgil C. Summer Nuclear Station, Unit No. 1—Exemption from Annual Force On-Force Exercise Requirement of 10 CFR part 73, appendix B, “General Criteria for Security Personnel,” subsection VI.C.3.(I)(1)I (EPID L-2020-LLE-0225 [COVID-19]), dated December 18, 2020 | ML20342A003.
Vogtle Electric Generating Plant, Units 1 and 2
Docket Nos. 50-424 and 50-425
Request for One-Time Exemptions from 10 CFR part 73, appendix B, section VI, subsection C.3.(I)(1) Regarding Annual Force-on-Force Exercises due to COVID-19 Pandemic, dated November 6, 2020 | ML20311A662.
Vogtle Electric Generating Plant, Units 1 and 2—Exemption from Annual Force-On-Force Exercise Requirement of 10 CFR part 73, appendix B, “General Criteria for Security Personnel,” subsection VI C.3.(I)(1) (EPID L-2020-LLE-0216 [COVID-19]), dated December 4, 2020 | ML20329A392.
Waterford Steam Electric Station, Unit 3
Docket No. 50-382
Waterford Steam Electric Station, Unit 3—Request for a One-Time Exemption from 10 CFR part 73, appendix B, section VI, subsection C.3.(I)(1) Regarding Annual Force-on-Force Exercises due to COVID-19 Pandemic, dated November 12, 2020 | ML20317A301.
Waterford Steam Electric Station, Unit 3—Exemption from Annual Force-On-Force Exercise Requirement of 10 CFR part 73, appendix B, “General Criteria for Security Personnel,” subsection VI.C.3.(I)(1) (EPID L-2020-LLE-0186 [COVID-19]), dated December 16, 2020 | ML20338A274.
Watts Bar Nuclear Plant, Units 1 and 2
Docket Nos. 50-390 and 50-391
Watts Bar Nuclear Plant, Units 1 and 2—Request for Exemption Regarding Calendar Year 2020 Force-on-Force Exercise, dated November 4, 2020 | ML20309A695.
Watts Bar Nuclear Plant, Units 1 and 2—Exemption from Annual Force-on-Force Exercise Requirement of 10 CFR part 73, appendix B, “General Criteria for Security Personnel,” subsection VI C.3(l)(1) (EPID L-2020-LLE-0179 [COVID-19]), dated December 8, 2020 | ML20318A036.

Dated: January 13, 2021.
For the Nuclear Regulatory Commission.
James G. Danna,
Chief, Plant Licensing Branch I, Division of Operating Reactor Licensing, Office of Nuclear Reactor Regulation.

[FR Doc. 2021-01091 Filed 1-15-21; 8:45 am]

BILLING CODE 7590-01-P